DEPARTMENT OF ENERGY

Federal Energy Regulatory Commission

Notice of Change in Meeting

Upon the affirmative votes of Chairman Chatterjee and Commissioners Glick and McNamee, this Notice hereby cancels the Commission meeting scheduled for March 19, 2020. All orders listed on the Sunshine Act Notice that was published on March 12, 2020, will be processed by notational voting.

Issued: March 13, 2020.
Kimberly D. Bose,
Secretary.

[FR Doc. 2020-05907 Filed 3-19-20; 8:45 am]

BILLING CODE 6717-01-P